DEPARTMENT OF TRANSPORTATION

Federal Aviation Administration

14 CFR Part 39

[Docket No. FAA-2012-0147; Directorate Identifier 2011-NM-067-AD; Amendment 39-17116; AD 2012-14-02]

RIN 2120-AA64

Airworthiness Directives; The Boeing Company Airplanes

AGENCY: Federal Aviation Administration (FAA), DOT.

ACTION: Final rule.

SUMMARY: We are superseding an existing airworthiness directive (AD) for certain The Boeing Company Model 767-200 and -300 series airplanes. That AD currently requires replacement of the existing deactivation pin, aft cascade pin bushing, and pin insert on each thrust reverser half with new, improved components. This new AD requires a dye penetrant inspection for cracking of the rivet holes of the bushing plate and repair or replacement, if necessary; and for certain airplanes, replacing the existing bushing with a new bushing and deactivation pin, and installing a new or serviceable stowage bracket for the deactivation pins on all airplanes powered by Pratt & Whitney JT9D series engines. This AD was prompted by reports that certain airplanes require installation of a new bushing and deactivation pin with increased load carrying capability and all airplanes powered by Pratt & Whitney JT9D series engines require installation of a new bracket for stowing the deactivation pin. We are issuing this AD to prevent failure of the thrust reverser deactivation pins, which could fail to prevent a deployment of a deactivated thrust reverser in flight and consequent reduced controllability of the airplane.

DATES: This AD is effective August 21, 2012.

The Director of the Federal Register approved the incorporation by reference of a certain publication listed in the AD as of August 21, 2012.

The Director of the Federal Register approved the incorporation by reference of a certain other publication listed in this AD as of November 5, 2002 (67 FR 61478, October 1, 2002).

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Rebel Nichols, Aerospace Engineer, Propulsion Branch, ANM-140S, FAA, Seattle Aircraft Certification Office (ACO), 1601 Lind Avenue SW., Renton, Washington 98057-3356; phone: 425-917-6509; fax: 425-917-6590; email: rebel.nichols@faa.gov.

SUPPLEMENTARY INFORMATION:

Discussion

We issued a Notice of Proposed Rulemaking (NPRM) to amend 14 CFR part 39 to supersede AD 2002-19-11, Amendment 39-12891 (67 FR 61478, October 1, 2002). That AD applies to the specified products. The NPRM published in the Federal Register on February 22, 2012 (77 FR 10406). That NPRM proposed to continue to require replacement of the existing deactivation pin, aft cascade pin bushing, and pin insert on each thrust reverser half with new, improved components. That NPRM also proposed to require a dye penetrant inspection for cracking of the rivet holes of the bushing plate and repair or replacement, if necessary; and for certain airplanes, replacing the existing bushing with a new bushing and deactivation pin, and installing a new or serviceable stowage bracket for the deactivation pins on all airplanes powered by Pratt & Whitney JT9D series engines.

Comments

We gave the public the opportunity to participate in developing this AD. The following presents the comments received on the proposal (77 FR 10406, February 22, 2012) and the FAA's response to each comment.

Support for Proposed Rule (77 FR 10406, February 22, 2012)

Boeing concurs with the content of the proposed rule (77 FR 10406, February 22, 2012).

Request To Provide Credit for Previous Actions

Atlas Air requested that we revise the NPRM (77 FR 10406, February 22, 2012) to provide credit for actions required by paragraph (h)(2) of the NPRM, if those actions were accomplished before the effective date of the AD using Boeing Service Bulletin 767-78A0089, Revision 3, dated December 18, 2003.

We agree. Paragraph (i) of the NPRM (77 FR 10406, February 22, 2012) provided credit for actions required by paragraph (g) of the NPRM if those actions were performed before the effective date of the NPRM using Boeing Service Bulletin 767-78A0089, Revision 2, dated March 13, 2003; Boeing Service Bulletin 767-78A0089, Revision 3, dated December 18, 2003; or Boeing Service Bulletin 767-78A0089, Revision 4, dated March 6, 2008. We have revised paragraph (i) of this final rule to also provide credit for actions required by paragraph (h)(2) of this AD, if those actions were performed before the effective date of this AD.

Explanation of Changes Made to This AD

We have revised certain headings throughout this AD and revised Note 1 of the NPRM (77 FR 10406, February 22, 2012) to paragraph (g)(2) of this AD. We have also revised paragraph (i) of this AD. These changes have not affected the intent of those paragraphs.

Explanation of Updated Credit Language

We have revised the heading and wording for paragraph (i) of this AD to provide appropriate credit for previous accomplishment of certain actions. This change does not affect the intent of that paragraph.

Conclusion

We reviewed the relevant data, considered the comments received, and determined that air safety and the public interest require adopting the AD with the change described previously. We have determined that these minor changes:

• Are consistent with the intent that was proposed in the NPRM (77 FR 10406, February 22, 2012) for correcting the unsafe condition; and

• Do not add any additional burden upon the public than was already proposed in the NPRM (77 FR 10406, February 22, 2012).

We also determined that these changes will not increase the economic burden on any operator or increase the scope of the AD.

Costs of Compliance

We estimate that this AD affects 23 airplanes of U.S. registry.

We estimate the following costs to comply with this AD:

Estimated Costs
Action | Labor cost | Parts cost | Cost per product | Number of U.S. registered airplanes | Cost on U.S. operators
Replace deactivation pin, pin bushing, and pin insert (retained actions from existing AD 2002-19-11, Amendment 39-12891 (67 FR 61478, October 1, 2002) | 12 work-hours × $85 per hour = $1,020 per inspection cycle | $12,108 | $13,128 | 23 | $301,944
Group 1: Install stowage bracket for deactivation pin (new action) | 17 work-hours × $85 per hour = $1,445 | 14,644 | 16,089 | 16 | 257,424
Group 2: Replace bushing and deactivation pin and install stowage bracket for thrust reverser deactivation pin (new action) | 17 work-hours × $85 per hour = $1,445 | 19,972 | 21,417 | 7 | 149,919

We have received no definitive data that would enable us to provide cost estimates for the on-condition actions (repair or replacement of bushing plate) specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2002-19-11, Amendment 39-12891 (67 FR 61478, October 1, 2002), and adding the following new AD:

2012-14-02 The Boeing Company: Amendment 39-17116; Docket No. FAA-2012-0147; Directorate Identifier 2011-NM-067-AD.

(a) Effective Date

This airworthiness directive (AD) is effective August 21, 2012.

(b) Affected ADs

This AD supersedes AD 2002-19-11, Amendment 39-12891 (67 FR 61478, October 1, 2002).

(c) Applicability

This AD applies to The Boeing Company Model 767-200 and -300 series airplanes, certificated in any category; as identified in Boeing Alert Service Bulletin 767-78A0089, Revision 5, dated June 9, 2009.

(d) Subject

Joint Aircraft System Component (JASC)/Air Transport Association (ATA) of America Code 7830, Thrust Reverser.

(e) Unsafe Condition

This AD was prompted by reports that certain airplanes require installation of a new bushing and deactivation pin with increased load carrying capability and all airplanes powered by Pratt & Whitney JT9D series engines require installation of a new bracket for stowing the deactivation pin. We are issuing this AD to prevent failure of the thrust reverser deactivation pins, which could fail to prevent a deployment of a deactivated thrust reverser in flight and consequent reduced controllability of the airplane.

(f) Compliance

Comply with this AD within the compliance times specified, unless already done.

(g) Retained Replacement of Deactivation Pin, Pin Bushing, and Pin Insert

(1) This paragraph restates the requirements of paragraph (a) of AD 2002-19-11, Amendment 39-12891 (67 FR 61478, October 1, 2002), with revised service information. Within 24 months after November 5, 2002 (the effective date of AD 2002-19-11, Amendment 39-12891 (67 FR 61478, October 1, 2002)), replace the existing deactivation pin, pin bushing in the aft cascade mounting ring, and pin insert on each thrust reverser half, with new, improved components, in accordance with Boeing Alert Service Bulletin 767-78A0089, Revision 1, dated May 30, 2002; or Boeing Alert Service Bulletin 767-78A0089, Revision 5, dated June 9, 2009. After the effective date of this AD, only Boeing Alert Service Bulletin 767-78A0089, Revision 5, dated June 9, 2009, may be used.

(2) The new, improved insert flange and pin bushing does not physically preclude use of a deactivation pin having P/N 315T1604-2 or -5. However, use of deactivation pins having P/N 315T1604-2 or -5 may not prevent the thrust reversers from deploying in the event of a full powered deployment. Therefore, thrust reversers modified per AD 2002-19-11, Amendment 39-12891 (67 FR 61478, October 1, 2002), are required to be installed with the new, longer deactivation pins having P/N 315T1604-6, as specified in Boeing Alert Service Bulletin 767-78A0089, Revision 1, dated May 30, 2002; or Boeing Alert Service Bulletin 767-78A0089, Revision 5, dated June 9, 2009. After the effective date of this AD, only Boeing Alert Service Bulletin 767-78A0089, Revision 5, dated June 9, 2009, may be used to install the new, longer deactivation pins.

(h) New Inspection, Bushing and Pin Replacement, and Installation of Stowage Bracket

Within 24 months after the effective date of this AD, do the applicable actions specified in paragraphs (h)(1) and (h)(2) of this AD.

(1) For Group 2 airplanes, as identified in Boeing Alert Service Bulletin 767-78A0089, Revision 5, dated June 9, 2009, do a dye penetrant inspection for cracking of the rivet holes and replace any P/N 315T3222-3 or P/N 315T3222-10 bushing and deactivation pin with a new or serviceable P/N 315T3221-1 bushing and new P/N 315T1604-6 deactivation pin, in accordance with the Accomplishment Instructions of Boeing Alert Service Bulletin 767-78A0089, Revision 5, dated June 9, 2009. If any crack is found in the rivet holes of the bushing plate, before further flight, repair or replace the bushing plate with a new or serviceable bushing plate, as applicable, using a method approved in accordance with the procedures specified in paragraph (j) of this AD.

(2) For both Group 1 and Group 2 airplanes, as identified in Boeing Alert Service Bulletin 767-78A0089, Revision 5, dated June 9, 2009, install a new or serviceable stowage bracket assembly (P/N 015T0196-4 for the right thrust reverser, P/N 015T0196-5 for the left thrust reverser), in accordance with the Accomplishment Instructions of Boeing Alert Service Bulletin 767-78A0089, Revision 5, dated June 9, 2009.

(i) Credit for Previous Actions

This paragraph provides credit for the actions specified in paragraphs (g) and (h)(2) of this AD, if those actions were performed before the effective date of this AD using Boeing Service Bulletin 767-78A0089, Revision 2, dated March 13, 2003; Boeing Service Bulletin 767-78A0089, Revision 3, dated December 18, 2003; or Boeing Service Bulletin 767-78A0089, Revision 4, dated March 6, 2008.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2002-19-11, Amendment 39-12891 (67 FR 61478, October 1, 2002), are approved as AMOCs for the corresponding provisions of paragraph (g) of this AD.

(k) Related Information

For more information about this AD, contact Rebel Nichols, Aerospace Engineer, Propulsion Branch, ANM-140S, FAA, Seattle Aircraft Certification Office (ACO), 1601 Lind Avenue SW., Renton, Washington 98057-3356; phone: 425-917-6509; fax: 425-917-6590; email: rebel.nichols@faa.gov.

(l) Material Incorporated by Reference

(1) The Director of the Federal Register approved the incorporation by reference (IBR) of the following service information under 5 U.S.C. 552(a) and 1 CFR part 51.

(2) You must use the following service information to do the actions required by this AD, unless the AD specifies otherwise.

(i) Boeing Alert Service Bulletin 767-78A0089, Revision 5, dated June 9, 2009.

(3) The following service information was approved for IBR on November 5, 2002 (67 FR 61478, October 1, 2002).

(i) Boeing Alert Service Bulletin 767-78A0089, Revision 1, dated May 30, 2002.

(4) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

(5) You may review copies of the service information at the FAA, Transport Airplane Directorate, 1601 Lind Avenue SW., Renton, Washington. For information on the availability of this material at the FAA, call 425-227-1221.

(6) You may also review copies of the service information that is incorporated by reference at the National Archives and Records Administration (NARA). For information on the availability of this material at NARA, call 202-741-6030, or go to: http://www.archives.gov/federal-register/cfr/ibr_locations.html.

Issued in Renton, Washington, on June 29, 2012.
Kalene C. Yanamura,
Acting Manager, Transport Airplane Directorate, Aircraft Certification Service.

[FR Doc. 2012-16933 Filed 7-16-12; 8:45 am]

BILLING CODE 4910-13-P